DEPARTMENT OF THE INTERIOR

National Park Service

[NPS-WASO-NAGPRA-23291; PPWOCRADN0-PCU00RP14.R50000]

Notice of Inventory Completion: Kansas State Historical Society, Topeka, KS

AGENCY: National Park Service, Interior.

ACTION: Notice.

SUMMARY: The Kansas State Historical Society has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Kansas State Historical Society. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Kansas State Historical Society at the address in this notice by July 3, 2017.

ADDRESSES: Dr. Robert J. Hoard, Kansas State Historical Society, 6425 SW. 6th Avenue, Topeka, KS 66615-1099, telephone (785) 272-8681, extension 269, rhoard@kshs.org.

SUPPLEMENTARY INFORMATION: Notice is here given in accordance with the Native American Graves Protection and Repatriation Act (NAGPRA), 25 U.S.C. 3003, of the completion of an inventory of human remains under the control of the Kansas State Historical Society, Topeka, KS. The human remains were removed from site 14SH305 in Shawnee County, KS.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Kansas State Historical Society professional staff in consultation with representatives of the Kaw Nation, Oklahoma.

History and Description of the Remains

On June 12, 2012, human remains representing, at minimum, one individual were removed from midden area 230 of site 14SH305 in Shawnee County, KS, during excavation of the site. Excavation in the immediate area ceased and the Shawnee County Sheriff was contacted (case no. 12-03361). Further excavation in site 14SH305 found no other human remains. No other provenience information is available. The human remains consist of one molar tooth. No known individual was identified. No associated funerary objects are present.

In or about 2013, human remains representing, at minimum, one individual were removed from feature 303 of site 14SH305 by an analyst while sorting very small skeletal remains. No other provenience information is available. The human remains consist of two human phalanges. No known individual was identified. No associated funerary objects are present.

Site 14SH305 is a known historic Kansa village, specifically Fool Chief's Village. Based on historical sources, it was originally recorded as an archeological site by Kansas State Archeologist Roscoe Wilmeth in 1957. The village was part of the Kansa Reservation, and was occupied from 1828 to 1844 by approximately 700-800 members of the Kansa tribe. In 2012 and 2013, the Kansas Historical Society conducted archeological excavations of the site in order to mitigate the effects of Kansas Department of Transportation Project Number 24-89 K-7431-01. The present-day descendants of the Kansa are the Kaw Nation, Oklahoma.

Determinations Made by the Kansas State Historical Society

Officials of the Kansas State Historical Society have determined that:

• Pursuant to 25 U.S.C. 3001(9), the human remains described in this notice represent the physical remains of two individuals of Native American ancestry.

• Pursuant to 25 U.S.C. 3001(2), there is a relationship of shared group identity that can be reasonably traced between the Native American human remains and the Kaw Nation, Oklahoma.

Additional Requestors and Disposition

Lineal descendants or representatives of any Indian tribe or Native Hawaiian organization not identified in this notice that wish to request transfer of control of these human remains should submit a written request with information in support of the request to Dr. Robert J. Hoard, Kansas State Historical Society, 6425 SW. 6th Avenue, Topeka, KS 66615-1099, telephone (785) 272-8681, extension 269, rhoard@kshs.org, by July 3, 2017. After that date, if no additional requestors have come forward, transfer of control of the human remains to the Kaw Nation, Oklahoma may proceed.

The Kansas State Historical Society is responsible for notifying the Kaw Nation, Oklahoma that this notice has been published.

Dated: April 21, 2017.
Melanie O'Brien,
Manager, National NAGPRA Program.

[FR Doc. 2017-11446 Filed 6-1-17; 8:45 am]

BILLING CODE 4312-52-P